DEPARTMENT OF THE INTERIOR

Bureau of Indian Affairs

[DR5B211IA000715]

Notice of Deadline for Submitting Completed Applications To Begin Participation in the Tribal Self-Governance Program in Fiscal Year 2016 or Calendar Year 2016

AGENCY: Office of Self-Governance, Interior.

ACTION: Notice of application deadline.

SUMMARY: In this notice, the Office of Self-Governance (OSG) establishes a March 20, 2015, deadline for Indian tribes/consortia to submit completed applications to begin participation in the tribal self-governance program in Fiscal Year 2016 or Calendar Year 2016.

DATES: Completed application packages must be received by the Director, Office of Self-Governance, by March 20, 2015.

ADDRESSES: Application packages for inclusion in the applicant pool should be sent to Sharee M. Freeman, Director, Office of Self-Governance, Department of the Interior, Mail Stop 355-G-SIB, 1951 Constitution Avenue NW., Washington, DC 20240.

FOR FURTHER INFORMATION CONTACT: Dr. Kenneth D. Reinfeld, Office of Self-Governance, telephone (703) 390-6551.

SUPPLEMENTARY INFORMATION: Under the Tribal Self-Governance Act of 1994 (Pub. L. 103-413) (Act), as amended by the Fiscal Year 1997 Omnibus Appropriations Bill (Pub. L. 104-208) and section 1000.15(a) of Title 25 of the Code of Federal Regulations, the Director, Office of Self-Governance may select up to 50 additional participating tribes/consortia per year for the tribal self-governance program and negotiate and enter into a written funding agreement with each participating tribe. The Act mandates that the Secretary of the Interior submit copies of the funding agreements at least 90 days before the proposed effective date to the appropriate committees of the Congress and to each tribe that is served by the Bureau of Indian Affairs' agency that is serving the tribe that is a party to the funding agreement. Initial negotiations with a tribe/consortium located in a region and/or agency which has not previously been involved with self-governance negotiations will take approximately 2 months from start to finish. Agreements for an October 1 to September 30 funding year need to be signed and submitted by July 1. Agreements for a January 1 to December 31 funding year need to be signed and submitted by October 1.

Purpose of Notice

The regulations at 25 CFR 1000.10 to 1000.31 will be used to govern the application and selection process for tribes/consortia to begin their participation in the tribal self-governance program in Fiscal Year 2016 and Calendar Year 2016. Applicants should be guided by the requirements in these subparts in preparing their applications. Copies of these subparts may be obtained from the information contact person identified in this notice.

Tribes/consortia wishing to be considered for participation in the tribal self-governance program in fiscal year 2016 or calendar year 2016 must respond to this notice, except for those tribes/consortia which are: (1) Currently involved in negotiations with the Department of the Interior (Interior); or (2) one of the 114 tribal entities with signed agreements.

Paperwork Reduction Act Statement

Under the Paperwork Reduction Act of 1995 (PRA), as implemented by the Office of Management and Budget (OMB) in 5 CFR 1320, a person is not required to respond to a collection of information by a Federal agency unless the collection displays a valid OMB control number. The application and reporting requirements related to this program are considered to be a collection of information subject to the requirements of the PRA. These submissions are required to obtain and/or retain a benefit. OMB has approved the information collections related to this program and has assigned control number 1076-0143, Tribal Self-Governance Program, which expires January 31, 2016. We estimate the annual burden associated with this collection to average 55 hours per respondent. This includes the time for reviewing instructions, gathering, and submitting the information to the Department. Comments regarding the burden or other aspects of this information collection may be directed to: Information Collection Officer, Office of Regulatory Affairs & Collaborative Action—Indian Affairs, 1849 C Street NW., MS-3642-MIB, Washington, DC 20240.

Dated: February 20, 2015.
Kevin K. Washburn,
Assistant Secretary—Indian Affairs.

[FR Doc. 2015-04308 Filed 3-2-15; 8:45 am]

BILLING CODE 4310-W8-P